SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before March 20, 2023.

ADDRESSES: Written comments and recommendations for this information collection request should be sent within 30 days of publication of this notice to www.reginfo.gov/public/do/ PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: In accordance with regulations and policy, the Small Business Development Centers (SBDCs) must provide SBA semi-annual financial and programmatic reports outlining expenditures and accomplishments. The information collected will be used to monitor the progress of the program. The Office of Entrepreneurial Development made minor adjustments to the form in number 3), under the heading EXPENSE CATEGORY to align with the SF 424 as follows:

1. Travel is moved from the fifth line to the third line.

2. Equipment is moved from the sixth line to the fourth line.

3. Supplies is moved from the seventh line to the fifth line.

4. Contractual is added as the sixth line.

5. Consultants is moved from the third line to the seventh line.

The remainder of the form stays the same.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information., OMB Control 3245-0169.

Title: “Federal Cash Transaction Report; Financial Status Report Program Income Report Narrative Program Report”.

Description of Respondents: SBDC Program Stakeholders, including State Directors.

Estimated Number of Respondents: 126.

Estimated Annual Responses: 126.

Estimated Annual Hour Burden: 7,308.

Curtis Rich,
Agency Clearance Officer.

[FR Doc. 2023-03458 Filed 2-16-23; 8:45 am]

BILLING CODE 8026-09-P